DEPARTMENT OF ENERGY

Federal Energy Regulatory Commission

Combined Notice of Filings #1

Take notice that the Commission received the following electric rate filings:

Docket Numbers: ER19-367-002; ER20-1241-001; ER20-1242-001.

Applicants: Pixelle Specialty Solutions LLC, Pixelle Androscoggin LLC, Pixelle Energy Services LLC.

Description: Notice of Change in Status of the Pixelle MBR Sellers.

Filed Date: 3/11/20.

Accession Number: 20200311-5269.

Comments Due: 5 p.m. ET 4/1/20.

Docket Numbers: ER20-811-001.

Applicants: Wisconsin Public Service Corporation.

Description: Tariff Amendment: Amendment to Filing of Assigned Agreements to be effective 3/17/2020.

Filed Date: 3/12/20.

Accession Number: 20200312-5038.

Comments Due: 5 p.m. ET 4/2/20.

Docket Numbers: ER20-1085-000.

Applicants: Virginia Electric and Power Company, PJM Interconnection, L.L.C.

Description: Supplement to February 24, 2010 Virginia Electric and Power Company tariff filing.

Filed Date: 3/11/20.

Accession Number: 20200311-5271.

Comments Due: 5 p.m. ET 4/1/20.

Docket Numbers: ER20-1241-000.

Applicants: Pixelle Androscoggin LLC.

Description: Baseline eTariff Filing: Notice of Succession to be effective 3/11/2020.

Filed Date: 3/11/20.

Accession Number: 20200311-5131.

Comments Due: 5 p.m. ET 4/1/20.

Docket Numbers: ER20-1242-000.

Applicants: Pixelle Energy Services LLC.

Description: Baseline eTariff Filing: Notice of Succession to be effective 3/11/2020.

Filed Date: 3/11/20.

Accession Number: 20200311-5134.

Comments Due: 5 p.m. ET 4/1/20.

Docket Numbers: ER20-1243-000.

Applicants: Midcontinent Independent System Operator, Inc.

Description: § 205(d) Rate Filing: 2020-03-12_SA 3432 MEC-Shenandoah Hillas Wind Project GIA (J476) to be effective 2/26/2020.

Filed Date: 3/12/20.

Accession Number: 20200312-5003.

Comments Due: 5 p.m. ET 4/2/20.

Docket Numbers: ER20-1244-000.

Applicants: Southwest Power Pool, Inc.

Description: § 205(d) Rate Filing: Substitute Original 3618 Little Blue Wind, LLC GIA to be effective 12/19/2019.

Filed Date: 3/12/20.

Accession Number: 20200312-5039.

Comments Due: 5 p.m. ET 4/2/20.

Docket Numbers: ER20-1245-000.

Applicants: Duke Energy Carolinas, LLC, Duke Energy Florida, LLC.

Description: § 205(d) Rate Filing: DEF Storm Recovery to be effective 6/1/2020.

Filed Date: 3/12/20.

Accession Number: 20200312-5060.

Comments Due: 5 p.m. ET 4/2/20.

Docket Numbers: ER20-1246-000.

Applicants: NorthWestern Corporation.

Description: § 205(d) Rate Filing: RS 42-SD—EP&C Agreement with East River Electric Power Cooperative to be effective 3/14/2020.

Filed Date: 3/12/20.

Accession Number: 20200312-5070.

Comments Due: 5 p.m. ET 4/2/20.

Docket Numbers: ER20-1247-000.

Applicants: GenOn Wholesale Generation, LP.

Description: Tariff Cancellation: Notice of Cancellation to be effective 3/13/2020.

Filed Date: 3/12/20.

Accession Number: 20200312-5075.

Comments Due: 5 p.m. ET 4/2/20.

Docket Numbers: ER20-1248-000.

Applicants: GenOn Energy Management, LLC.

Description: § 205(d) Rate Filing: Market-Based Rate Tariff Revisions to be effective 3/13/2020.

Filed Date: 3/12/20.

Accession Number: 20200312-5096.

Comments Due: 5 p.m. ET 4/2/20.

Docket Numbers: ER20-1249-000.

Applicants: Northern States Power Company, a Minnesota corporation, Northern States Power Company, a Wisconsin corporation.

Description: § 205(d) Rate Filing: 2020 Interchange Agreement Annual Filing to be effective 1/1/2020.

Filed Date: 3/12/20.

Accession Number: 20200312-5111.

Comments Due: 5 p.m. ET 4/2/20.

Docket Numbers: ER20-1250-000.

Applicants: Brunot Island Power, LLC.

Description: § 205(d) Rate Filing: Market-Based Rate Tariff Revisions to be effective 3/13/2020.

Filed Date: 3/12/20.

Accession Number: 20200312-5127.

Comments Due: 5 p.m. ET 4/2/20.

Docket Numbers: ER20-1251-000.

Applicants: Gilbert Power, LLC.

Description: § 205(d) Rate Filing: Market-Based Rate Tariff Revisions to be effective 3/13/2020.

Filed Date: 3/12/20.

Accession Number: 20200312-5130.

Comments Due: 5 p.m. ET 4/2/20.

Docket Numbers: ER20-1252-000.

Applicants: Mountain Power, LLC.

Description: § 205(d) Rate Filing: Market-Based Rate Tariff Revisions to be effective 3/13/2020.

Filed Date: 3/12/20.

Accession Number: 20200312-5131.

Comments Due: 5 p.m. ET 4/2/20.

Docket Numbers: ER20-1253-000.

Applicants: New Castle Power, LLC.

Description: § 205(d) Rate Filing: Market-Based Rate Tariff Revisions to be effective 3/13/2020.

Filed Date: 3/12/20.

Accession Number: 20200312-5134.

Comments Due: 5 p.m. ET 4/2/20.

Docket Numbers: ER20-1254-000.

Applicants: Portland Power, LLC.

Description: § 205(d) Rate Filing: Market-Based Rate Tariff Revisions to be effective 3/13/2020.

Filed Date: 3/12/20.

Accession Number: 20200312-5138.

Comments Due: 5 p.m. ET 4/2/20.

Docket Numbers: ER20-1255-000.

Applicants: Sayreville Power, LLC.

Description: § 205(d) Rate Filing: Market-Based Rate Tariff Revisions to be effective 3/13/2020.

Filed Date: 3/12/20.

Accession Number: 20200312-5139.

Comments Due: 5 p.m. ET 4/2/20.

Docket Numbers: ER20-1256-000.

Applicants: Shawville Power, LLC.

Description: § 205(d) Rate Filing: Market-Based Rate Tariff Revisions to be effective 3/13/2020.

Filed Date: 3/12/20.

Accession Number: 20200312-5142.

Comments Due: 5 p.m. ET 4/2/20.

Docket Numbers: ER20-1257-000.

Applicants: Warren Generation, LLC.

Description: § 205(d) Rate Filing: Market-Based Rate Tariff Revisions to be effective 3/13/2020.

Filed Date: 3/12/20.

Accession Number: 20200312-5144.

Comments Due: 5 p.m. ET 4/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2020.
Nathaniel J. Davis, Sr.,
Deputy Secretary.

[FR Doc. 2020-05565 Filed 3-17-20; 8:45 am]

BILLING CODE 6717-01-P